DEPARTMENT OF COMMERCE

Foreign-Trade Zones Board

[Order No. 1964]

Reorganization of Foreign-Trade Zone 84 Under Alternative Site Framework; Houston, Texas

Pursuant to its authority under the Foreign-Trade Zones Act of June 18, 1934, as amended (19 U.S.C. 81a-81u), the Foreign-Trade Zones Board (the Board) adopts the following Order:

Whereas, the Board adopted the alternative site framework (ASF) (15 CFR Sec. 400.2(c)) as an option for the establishment or reorganization of zones;

Whereas, the Port of Houston Authority, grantee of Foreign-Trade Zone 84, submitted an application to the Board (FTZ Docket B-53-2014, docketed 08-01-2014) for authority to reorganize under the ASF with a service area of Harris County, Texas, within and adjacent to the Houston Customs and Border Protection port of entry, FTZ 84's existing Sites 1, 2, 3, 8, 10, 20, 26, 28 and 29 would be categorized as magnet sites, existing Sites 4, 5, 6, 7, 9, 11, 12, 13, 14, 15, 16, 23 and 24 would be categorized as usage-driven sites, and Temporary Sites 27, 30 and 32 would maintain their current zone designation;

Whereas, notice inviting public comment was given in the Federal Register (79 FR 46249-46250, 08-07-2014) and the application has been processed pursuant to the FTZ Act and the Board's regulations; and,

Whereas, the Board adopts the findings and recommendation of the examiner's report, and finds that the requirements of the FTZ Act and the Board's regulations are satisfied;

Now, therefore, the Board hereby orders:

The application to reorganize FTZ 84 under the ASF is approved, subject to the FTZ Act and the Board's regulations, including Section 400.13, to the Board's standard 2,000-acre activation limit for the zone, to a ASF sunset provision for magnet sites that would terminate authority for Sites 1, 8, 10, 20, 26, 28 and 29 if not activated within five years from the month of approval and for Site 2 if not activated within the initial eight years from the month of approval, and to a ASF sunset provision for usage-driven sites that would terminate authority for Sites 4, 5, 6, 7, 9, 11, 12, 13, 14, 15, 16, 23 and 24 if no foreign-status merchandise is admitted for a bona fide customs purpose within three years from the month of approval.

Signed at Washington, DC, this 30 day of January 2015.
Paul Piquado,
Assistant Secretary of Commerce for Enforcement and Compliance, Alternate Chairman, Foreign-Trade Zones Board.
Andrew McGilvray,
Executive Secretary.

[FR Doc. 2015-02975 Filed 2-11-15; 8:45 am]

BILLING CODE 3510-DS-P